DEPARTMENT OF THE TREASURY

Departmental Offices; Treasury Department Order Establishing the Alcohol and Tobacco Tax and Trade Bureau

AGENCY: Department of the Treasury, Departmental Offices.

ACTION: Notice.

SUMMARY: The Department of the Treasury is publishing a revision to Treasury Order 120-01 to formally establish within the Department the Alcohol and Tobacco Tax and Trade Bureau.

DATES: This Order is effective January 24, 2003.

FOR FURTHER INFORMATION CONTACT: Marc A. Rigrodsky, Senior Counsel, Office of the Assistant General Counsel (General Law and Ethics), 202-622-1181 (not a toll-free call).

SUPPLEMENTARY INFORMATION: On November 25, 2002, the President signed into law the Homeland Security Act of 2002 (Pub. L. 107-296). Section 1111(c) of that Act transferred to the Department of Justice certain authorities, functions, personnel, and assets of the Bureau of Alcohol, Tobacco and Firearms (ATF), including the related functions of the Secretary of the Treasury. The Act also established within the Department of the Treasury the Tax and Trade Bureau (TTB).

On January 24, 2003, TTB assumes responsibility from ATF for the administration and enforcement of the following laws: chapter 51 (“Distilled spirits, wines, and beer”) and 52 (“Tobacco products and cigarette papers and tubes”) of the Internal Revenue Code of 1986 (Code); sections 4181 (Firearms—“Imposition of tax”) and 4182 (“Exemptions”) of the Code; and title 27, United States Code (“Intoxicating Liquors”). Revised Treasury Order 120-01 ensures that the TTB Administrator may exercise the authorities, perform the functions, and carry out the duties of the Secretary with respect to these laws. To avoid confusion over TTB's mission, the revised order also redesignates the TTB as the Alcohol and Tobacco Tax and Trade Bureau.

The text of the Order follows.

Dated: January 21, 2003.
Richard S. Carro,
Senior Advisor to the General Counsel, (Regulatory Affairs).

Treasury Order 120-01 (Revised)

Date: January 21, 2003.

Subject: Alcohol and Tobacco Tax and Trade Bureau

1. Establishment. By virtue of section 1111(d) of the Homeland Security Act of 2002, Title XI, Subtitle B, Pub. L. No. 107-296, 116 Stat. 2274, codified at 6 U.S.C. section 531(d), and by the authority vested in the Secretary of the Treasury (“Secretary”) under 26 U.S.C. 7801(a) and 31 U.S.C. section 321(b), the Tax and Trade Bureau is established within the Department.

2. Designation of the Tax and Trade Bureau as the Alcohol and Tobacco Tax and Trade Bureau. The Tax and Trade Bureau is designated as the Alcohol and Tobacco Tax and Trade Bureau (“TTB”). The head of the TTB is the Administrator (“Administrator”), who is appointed by the Secretary, and who shall perform duties as assigned by the Secretary or his designee.

3. Authorities, Functions, and Powers of the Administrator. The Administrator shall exercise the authorities, perform the functions, and carry out the duties of the Secretary in the administration and enforcement of:

a. Chapters 51 and 52 of the Internal Revenue Code of 1986;

b. Sections 4181 and 4182 of the Internal Revenue Code of 1986; and

c. Title 27, United States Code.

4. Former Authorities of the Director, ATF. The Administrator shall have all authorities delegated to the Director of the Bureau of Alcohol, Tobacco and Firearms in effect on January 23, 2003, that are related to the administration and enforcement of the laws specified in paragraph 3. The Administrator shall possess full authority, powers, and duties to administer the affairs of and to perform the functions of TTB, including, without limitation, all management and administrative authorities and responsibilities similarly granted and assigned to Bureau Heads or Heads of Bureaus in Treasury Orders and Treasury Directives.

5. Completed Administrative Actions, Pending Proceedings, and Regulations.

a. All completed administrative actions of the Bureau of Alcohol, Tobacco and Firearms, including but not limited to orders, determinations, rules, regulations, personnel actions, permits, agreements, grants, contracts, certificates, licenses, registrations, privileges and forms issued, adopted or executed in connection with the administration and enforcement of the laws specified in paragraph 3 on or before January 23, 2003, shall continue in effect until superseded or revised.

b. The terms “Director, Bureau of Alcohol, Tobacco and Firearms,” “Director,” and similar references wherever used in completed administrative actions issued, adopted or executed in connection with the administration and enforcement of the laws specified in paragraph 3 on or before January 23, 2003, shall mean the Administrator. The terms “ATF officer” or “appropriate ATF officer,” and all references to officers or employees of the Bureau of Alcohol, Tobacco and Firearms in completed administrative actions issued, adopted or executed in connection with the administration and enforcement of the laws specified in paragraph 3 on or before January 23, 2003, shall apply to officers or employees of TTB.

c. Proceedings pending in the Bureau of Alcohol, Tobacco and Firearms on January 23, 2003, relating to the administration and enforcement of the laws specified in paragraph 3, including but not limited to notices of proposed rulemaking, applications for licenses, permits, certificates, grants, and financial assistance, and personnel actions and other administrative proceedings, shall be under the authority of the Secretary and are delegated to the Administrator consistent with delegations from the Secretary to the Director of the Bureau of Alcohol, Tobacco and Firearms in effect on January 23, 2003.

d. Regulations for the purposes of carrying out the authorities, functions, and duties delegated to the Administrator may be issued by him with the approval of the Secretary or his designee.

6. Redelegation. The Administrator may delegate any of the authority vested under this Order. All delegations of authority in existence on January 23, 2003, by the Director of the Bureau of Alcohol, Tobacco and Firearms related to the administration and enforcement of the laws specified in paragraph 3 to positions established within TTB shall remain in effect until superseded or revised.

7. Ratification. Any action heretofore taken that is consistent with this Order is hereby affirmed and ratified.

8. Privacy Act of 1974, as Amended, Systems of Records. All systems of records of the Bureau of Alcohol, Tobacco and Firearms related to the administration and enforcement of the laws specified in paragraph 3 that were in effect on January 23, 2003, shall be TTB systems of records and shall continue to be covered by the Federal Register notice published on August 30, 2001, at 66 Federal Register 45893, until superseded or revised.

9. Cancellations.

a. Treasury Order 120-01, “Establishment of the Bureau of Alcohol, Tobacco and Firearms,” dated June 6, 1972, is cancelled.

b. Treasury Order 120-02, “Trafficking in Contraband Cigarettes,” dated December 5, 1978, is cancelled.

c. Treasury Order 120-03, “Transfer of Functions to the Director, Bureau of Alcohol, Tobacco and Firearms, to Administer and Enforce, 26 U.S.C. 4181 and 4182, Relating to Excise Tax on Firearms,” dated November 5, 1990, is cancelled.

d. Treasury Directive 15-12, “Delegation of Authority to the Director, Bureau of Alcohol, Tobacco and Firearms, to Investigate Violations of 18 U.S.C. §§ 1956 and 1957,” dated November 5, 2001, is cancelled.

10. Authorities. Section 1111 of the Homeland Security Act of 2002, Title XI, Subtitle B, Pub. L. No. 107-296, 116 Stat. 2274, codified 6 U.S.C. section 531, 26 U.S.C. Section 7801(a), and 31 U.S.C. Section 321(b).

11. Effective Date: January 24, 2003.

12. Office of Primary Interest: Alcohol and Tobacco Tax and Trade Bureau.

Kenneth W. Dam,
Acting Secretary of the Treasury.

[FR Doc. 03-1690 Filed 1-23-03; 8:45 am]

BILLING CODE 4810-25-P